DEPARTMENT OF HEALTH AND HUMAN SERVICES

Centers for Disease Control and Prevention

[30Day-19-18AWP]

Agency Forms Undergoing Paperwork Reduction Act Review

In accordance with the Paperwork Reduction Act of 1995, the Centers for Disease Control and Prevention (CDC) has submitted the information collection request titled “Using social media for recruitment in cancer prevention and control survey-based research (SMFR Study)” to the Office of Management and Budget (OMB) for review and approval. CDC previously published a “Proposed Data Collection Submitted for Public Comment and Recommendations” notice on September 18, 2018 to obtain comments from the public and affected agencies. CDC received five comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of notice publication.

Proposed Project

Using Social Media for Recruitment in Cancer Prevention and Control Survey-Based Research—New—National Center for Chronic Disease Prevention and Health Promotion (NCCDPHP), Centers for Disease Control and Prevention (CDC).

Background and Brief Description

This project involves formative research to assess the feasibility of using social media to conduct survey-based cancer prevention and control research for study recruitment. To achieve this goal, the project will field four online surveys for three distinct populations using Facebook, Twitter, and Google ads as tools for recruitment. Sampling bias and ability to use weights, among other statistical methods, to correct for potential bias will be assessed at the conclusion of the study.

This project has two aims:

Aim 1: To develop and launch surveys with three populations of interest to cancer prevention and control research using social media platforms for study recruitment. This will consist of using Facebook, Twitter, and Google ads to recruit participants from three groups: Cancer survivors, those at high risk for cancer, and the general population (for cancer screening). Survey questions will be taken from previously administered national surveys, such as NHIS, HINTS, and MEPS, in addition to questions specially developed for this study.

Aim 2: To assess the extent of sampling bias associated with surveys using social media platforms and the internet as frames for non-proportional sampling and the ability to use weights or other statistical methods to correct for potential biases. Content for the social media surveys will include questions from nationally representative surveys (such as the National Health Interview Survey) to enable socio-demographic and health history comparisons with nationally representative populations. In addition we will explore the ability to use post-stratification weights, propensity scores, or other statistical methods to address issues of potential sampling bias.

The first survey will target cancer survivors and focus on general health and well-being post-treatment. The second survey will target the general population, focusing on cancer screening and access to care. The third and fourth surveys will target those at high risk for cancer focusing on communication of genetic risk among family members and the tools and resources needed for risk communication.

Individuals will be recruited to participate in the web survey through ads posted on social media sites including Facebook, Twitter, and Google Analytics. Self-reported data provided on users' profile pages may be applied for targeting to maximize the value of each ad.

• Ads for the survivorship survey will be targeted toward users who `like', search, and/or visit web pages geared toward survivors, such as the National Cancer Survivors Day Facebook page. Individuals will be screened for eligibility until the target of up to 1,000 completes is met. It is expected that to reach 1,000 eligible respondents for the survivorship survey, 3,000 individuals will need to be screened.

• Ads for the general population survey will be targeted toward users whose profiles indicate they are 40 or older. Individuals will be screened for eligibility until the target of up to 1,000 completes is met. It is expected that to reach 1,000 eligible respondents for the general population survey, 1,500 individuals will need to be screened.

• Ads for the high-risk survey will be targeted toward users who `like', visit, or search for terms related to cancer and genetic testing. Individuals will be screened for eligibility until the target of up to 1,000 completes is met. It is expected that to reach 1,000 eligible respondents for the high-risk survey, 2,000 individuals will need to be screened.

• Eligible high-risk participants will be invited via email to participate in the follow-up high-risk survey. Additional social media ads may also be placed, using the targeting methods described above. In order to survey 1,000 high-risk adults, it is expected that an additional 4,000 individuals will be screened.

Participation in this project is completely voluntary. There are no costs to the respondents other than their time. The total estimated annualized burden is 1,567 hours.

Estimated Annualized Burden Hours
Type of respondents | Form name | Number of respondents | Number of responses per respondent | Average burden per response (in hrs.)
Adults at High Risk for Cancer | Survey Screener | 2,000 | 1 | 2/60
Adults over 40 | Survey Screener | 1,500 | 1 | 2/60
Cancer Survivors | Survey Screener | 3,000 | 1 | 2/60
Adults at High Risk for Cancer | Follow-Up Screener | 4,000 | 1 | 2/60
Adults at High Risk for Cancer | High-Risk Survey | 1,000 | 1 | 19/60
Adults over 40 | General Population Survey | 1,000 | 1 | 22/60
Cancer Survivors | Survivorship Survey | 1,000 | 1 | 15/60
Adults at High Risk for Cancer | High-Risk Follow-Up Survey | 1,000 | 1 | 17/60

Jeffrey M. Zirger,
Lead, Information Collection Review Office, Office of Scientific Integrity, Office of Science, Centers for Disease Control and Prevention.

[FR Doc. 2019-05554 Filed 3-22-19; 8:45 am]

BILLING CODE 4163-18-P